DEPARTMENT OF DEFENSE

Office of the Secretary

[Transmittal No. 20-70]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-70 with attached Policy Justification and Sensitivity of Technology.

Dated: November 25, 2020.
Kayyonne T. Marston,
Alternate OSD Federal Register Liaison Officer, Department of Defense.

BILLING CODE 5001-06-P

BILLING CODE 5001-06-C

Transmittal No. 20-70

Notice of Proposed Issuance of Letter of Offer Pursuant to Section 36(b)(1) of the Arms Export Control Act, as Amended

(i) Prospective Purchaser: Government of India.

(ii) Total Estimated Value:

Major Defense Equipment * | $ 0 million
Other | $90 million
Total | $90 million

(iii) Description and Quantity or Quantities of Articles or Services under consideration for Purchase: The Government of India has requested to buy items and services to extend follow-on support for its fleet of C-130J Super Hercules aircraft. These items include:

Major Defense Equipment (MDE): None

Non-MDE: Aircraft consumables spares and repair/return parts; ground support and equipment; Cartridge Actuated Devices/Propellant Actuated Devices (CAD/PAD) fire extinguisher cartridges; flare cartridges; BBU-35/B cartridge impulse squibs; one spare AN/ALR-56M Advanced Radar Warning Receiver shipset; spare AN/ALE-47 Counter-Measures Dispenser System shipset; ten Lightweight Night Vision Binocular (F5032); ten AN/AVS-9 Night Vision Goggle (NVG)(F4949); GPS; Electronic Warfare; instruments and lab equipment support; Joint Mission Planning System; cryptographic device spares and loaders; software and software support; publications and technical documentation; personnel training and training and training equipment; U.S. and contractor engineering, technical, and logistical support; and other related elements of program support.

(iv) Military Department: Air Force (IN-D-QAH).

(v) Prior Related Cases, if any: IN-D-SAA, IN-D-SAD, IN-D-QAE.

(vi) Sales Commission, Fee, etc. Paid, Offered, or Agreed to be Paid: None.

(vii) Sensitivity of Technology Contained in Defense Article or Defense Services Proposed to be Sold: See Attached Annex.

(viii) Date Report Delivered to Congress: September 30, 2020.

* As defined in Section 47(6) of the Arms Export Control Act.

POLICY JUSTIFICATION

India—C-130J Follow-on Support

The Government of India has requested to buy items and services to extend follow-on support for their fleet of C-130J Super Hercules aircraft. These items include aircraft consumables spares and repair/return parts; ground support and equipment; Cartridge Actuated Devices/Propellant Actuated Devices (CAD/PAD) fire extinguisher cartridges; flare cartridges; BBU-35/B cartridge impulse squibs; one spare AN/ALR-56M Advanced Radar Warning Receiver shipset; spare AN/ALE-47 Counter-Measures Dispenser System shipset; ten Lightweight Night Vision Binocular (F5032); ten AN/AVS-9 Night Vision Goggle (NVG)(F4949); GPS; Electronic Warfare; instruments and lab equipment support; Joint Mission Planning System; cryptographic device spares and loaders; software and software support; publications and technical documentation; personnel training and training and training equipment; U.S. and contractor engineering, technical, and logistical support; and other related elements of program support. The estimated total case value is $90 million.

This proposed sale will support the foreign policy and national security of the United States by helping to strengthen the U.S.-Indian strategic relationship and improve the security of a major defensive partner, which continues to be an important force for political stability, peace, and economic progress in the Indo-Pacific and South Asia region

The proposed sale ensures the previously procured aircraft operates effectively to serve the needs of Indian Air Force, Army and Navy transport requirements, local and international humanitarian assistance, and regional disaster relief. This sale of spares and services will enable the Indian Air Force to sustain a mission-ready status with respect to the C-130J transport. India will have no difficulty absorbing this additional sustainment support.

The proposed sale of this equipment and support will not alter the basic military balance in the region.

The prime contractor will be Lockheed-Martin Company, Marietta, Georgia. There are no known offsets proposed in connection with this potential sale.

Implementation of this proposed sale will not require the assignment of any additional U.S. Government or contractor representatives India.

There will be no adverse impact on U.S. defense readiness as a result of this proposed sale.

Transmittal No. 20-70

Notice of Proposed Issuance of Letter of Offer Pursuant to Section 36(b)(1) of the Arms Export Control Act

Annex

Item No. vii

(vii) Sensitivity of Technology:

1. The AN/ALR-56M is a computer controlled radar warning receiver (RWR). It monitors the environment in an effort to detect radar signals. Upon detection and identification of a valid radar signal, emitter identification is conveyed to the AN/ALE-47 countermeasures dispenser system. The ALR-56M has thirteen line replaceable units (LRUs): four I/J band DF receivers, an Analysis Processor, a Superhet Controller, a Superhet Receiver, a C/D band Receiver/Power supply, four I/J band antennas, and one C/D band antenna.

2. The AN/ALE-47 Counter-Measures Dispensing System (CMDS) is an integrated, threat-adaptive, software-programmable dispensing system capable of dispending chaff, flares, and active radio frequency expendables. The system is internally mounted and may be operated as a stand-alone system or may be integrated with other on-board electronic warfare and avionics systems. The AN/ALE-47 uses data received over the aircraft interfaces to assess the threat situation and to determine a response.

3. The highest level of classification of information included in this potential sale is SECRET.

4. If a technologically advanced adversary were to obtain knowledge of the specific hardware and software elements, the information could be used to develop countermeasures which might reduce weapon system effectiveness or be used in the development of a system with similar or advanced capabilities.

5. A determination has been made that the recipient country can provide the same degree of protection for the sensitive technology being released as the U.S. Government. The sale is necessary in furtherance of the U.S. foreign policy and national security objectives outline in the Policy Justification.

6. All defense articles and services listed in this transmittal have been authorized for release and export to the Government of India.

[FR Doc. 2020-26541 Filed 12-1-20; 8:45 am]

BILLING CODE 5001-06-P